DEPARTMENT OF HOMELAND SECURITY

Coast Guard

33 CFR Part 100

[CGD01-04-052]

Special Local Regulation; Harvard-Yale Regatta, Thames River, New London, CT

AGENCY: Coast Guard, DHS.

ACTION: Notice of implementation of regulation.

SUMMARY: The Coast Guard is implementing the permanent regulations for the annual Harvard-Yale Regatta, a rowing competition held on the Thames River in New London, CT. The regulation controls vessel traffic within the immediate vicinity of the event due to the confined nature of the waterway and anticipated congestion at the time of the event, thus providing for the safety of life and property on the affected navigable waters.

DATES: The regulations in 33 CFR 100.101 will be enforced from 9:30 a.m. on June 12, 2004, until 5 p.m on June 13, 2004.

FOR FURTHER INFORMATION CONTACT: Petty Officer Austin Nagle, Office of Search and Rescue, First Coast Guard District, (617) 223-8460.

SUPPLEMENTARY INFORMATION: This notice implements the permanent special local regulation governing the 2004 Harvard-Yale Regatta. The regulations in 33 CFR 100.101 will be enforced from 9:30 a.m. until 5 p.m. on June 12, 2004, with a rain date of June 13, 2004, if the regatta is postponed due to inclement weather.

A portion of the Thames River in New London, Connecticut will be closed during the event to all vessel traffic except participants, official regatta vessels, patrol craft and spectators as prescribed by the regulation. The regulated area is that area of the river between the Penn Central drawbridge, now known as the Thames River Amtrak drawbridge, and Bartlett's Cove. Additional public notification will be made via the First Coast Guard District Local Notice to Mariners and marine safety broadcasts. The full text of this regulation is found in 33 CFR 100.101.

Dated: May 27, 2004.
Vivien S. Crea,
Rear Admiral, U.S. Coast Guard, Commander, First Coast Guard District.

[FR Doc. 04-12964 Filed 6-8-04; 8:45 am]

BILLING CODE 4910-15-P